DEPARTMENT OF DEFENSE

Office of the Secretary

[DOD-2008-OS-0013]

Privacy Act of 1974; System of Records

AGENCY: DoD; Defense Information Systems Agency.

ACTION: Notice to Amend a System of Records.

SUMMARY: Defense Information Systems Agency proposes to amend a system of records notice in its existing inventory of records systems subject to the Privacy Act of 1974, (5 U.S.C. 552a), as amended.

DATES: This proposed action will be effective without further notice on March 31, 2008 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: February 25, 2008.
L.M. Bynum,
Alternate OSD Federal Register Liaison Officer, Department of Defense.

K890.01

SYSTEM NAME:

Freedom of Information Act File (FOIA) (August 23, 1995, 60 FR 43778).

CHANGES:

* * * * *

SYSTEM LOCATION:

Delete entry and replace with “General Counsel (RGC) Headquarters, Defense Information Systems Agency, P.O. Box 4502, Arlington, VA 22204-2199.

Decentralized—DISA Field Activities World-wide. Official mailing addresses are published as an appendix to DISA's compilation of systems of records notices.

* * * * *

CATEGORIES OF RECORDS IN THE SYSTEM:

Delete entry and replace with “Consists of (1) Policy File that contains DOD Directive 5400.7-R, DoD Freedom of Information Act Program; DISA Instruction 630-225-8-DISA, Freedom of Information Act Program. (2) Log File, which consists of a record of all written requests, names, addresses and phone numbers of requestors who request information under the FOIA which has been processed within DISA since January 1, 1996. (3) Correspondence received in DISA relating to FOIA, including replies thereto.”

AUTHORITY FOR MAINTENANCE OF THE SYSTEM:

Delete entry and replace with “5 U.S.C. 552, Freedom of Information Act and DOD Directive 5400.7-R, DoD Freedom of Information Act Program.

PURPOSE(S):

Delete entry and replace with “For making available to the public the maximum amount of information concerning the operations and activities of DISA. DISA Management—to receive, process, and respond to requests for information under FOIA. General Counsel, DISA—to review and deny requests for information under provisions of FOIA and to forward applicable correspondence to the Director, DISA when the denial may be contested or appealed. DOD and Department of Justice—for review and in event of judicial action.”

* * * * *

RETRIEVABILITY:

Delete entry and replace with “Retrieved by the control number and the name of the individual who requested the information.”

SAFEGUARDS:

Delete entry and replace with “Records are stored in a locked safe. Records pertaining to policy are permanent. Correspondence maintained for two years, then destroyed. Records are maintained in areas accessible only to authorized personnel.”

RETENTION AND DISPOSAL:

Delete entry and replace with “All records are retained by Office of General Counsel, Headquarters, DISA, for two years. Logs are kept until reference need expires.”

* * * * *

SYSTEM MANAGER(S) AND ADDRESS:

Delete entry and replace with “FOIA Officer, Headquarters, Defense Information Systems Agency, Code GC, P.O. Box 4502, Arlington, VA 22204-2199.”

NOTIFICATION PROCEDURE:

Delete entry and replace with “Individuals seeking to determine whether information about themselves is contained in this system should address written inquiries to the Defense Information Systems Agency ATTN: FOIA Officer Code GC, P.O. Box 4502, Arlington, VA 22204-2199.

Requests should contain individual's name, current address, and phone number.”

RECORD ACCESS PROCEDURES:

Delete entry and replace with “Individuals seeking access to information about themselves contained in this system should address inquiries to the FOIA Officer, Defense Information Systems Agency Code GC, P.O. Box 4502, Arlington, VA 22204-2199.

Requests should contain individual's name, current address, and phone number.”

CONTESTING RECORD PROCEDURES:

Delete DISA Instruction 630-225-8 and replace with “DISA Instruction 210-225.”

* * * * *

[FR Doc. E8-3914 Filed 2-28-08; 8:45 am]

BILLING CODE 5001-06-P